DEPARTMENT OF HEALTH AND HUMAN SERVICES

Centers for Medicare & Medicaid Services

Notice of Withdrawal of Development of Computed Tomography (CT) Image Quality and Safety Hospital Measures Funding Opportunity

AGENCY: Centers for Medicare & Medicaid Services (CMS), Department of Health and Human Services (HHS).

ACTION: Withdrawal notice.

SUMMARY: This notice withdraws the “Development of Computed Tomography (CT) Image Quality and Safety Hospital Measures” notice that published in the Federal Register on January 5, 2021. That notice announced a funding opportunity to seek an application for a single source, cooperative agreement, to develop a radiology electronic clinical quality measure(s) (eCQM) for the following CMS hospital programs: Hospital Inpatient Quality Reporting Program (IQR); Hospital Outpatient Quality Reporting Program (OQR); and Promoting Interoperability Program for Eligible Hospitals and Critical Access Hospitals—formerly Meaningful Use (PI). CMS will no longer provide support through a cooperative agreement in its planning, technical assistance, and reporting needs related to submission of a fully developed and tested radiology measures to the 2021 Measures Under Consideration (MUC) List in May 2021.

DATES: The notice published at 86 FR 306 on January 5, 2021, is withdrawn as of February 25, 2021.

FOR FURTHER INFORMATION CONTACT:

Janis Grady, (410) 786-7217, for programmatic questions or concerns.

Monica Anderson, (410) 786-2988, for administrative and compliance concerns.

SUPPLEMENTARY INFORMATION:

I. Background

CMS has determined that current delays will not allow adequate time for the measures to be developed to meet internal deadlines, as such the determination is made to withdraw the January 5, 2021 Federal Register notice.

CMS will no longer provide support through a single source cooperative agreement in its planning, technical assistance, and reporting needs related to submission of a fully developed and tested radiology measures to the 2021 Measures Under Consideration (MUC) List in May 2021.

II. Provisions of the Notice

This notice withdraws the solicitation notice that we published in the Federal Register on January 5, 2021. For this Notice of Funding Opportunity, CMS will no longer accept an application for development of radiology electronic clinical quality measures (eCQM) that fill an existing gap or need and are high impact.

III. Collection of Information Requirements

This document does not impose information collection requirements, that is, reporting, recordkeeping or third-party disclosure requirements. Consequently, there is no need for review by the Office of Management and Budget under the authority of the Paperwork Reduction Act of 1995 (44 U.S.C. 3501 et seq.).

The Acting Administrator of the Centers for Medicare & Medicaid Services (CMS), Elizabeth Richter, having reviewed and approved this document, authorizes Lynette Wilson, who is the Federal Register Liaison, to electronically sign this document for purposes of publication in the Federal Register.

Authority: Programmatic Authority of the Social Security Act, Titles XI, XVIII, XIX, XXI.

Dated: February 24, 2021.
Lynette Wilson,
Federal Liaison, Centers for Medicare & Medicaid Services.

[FR Doc. 2021-04130 Filed 2-25-21; 8:45 am]

BILLING CODE 4120-01-P